DEPARTMENT OF COMMERCE

International Trade Administration

[A-533-932]

Hexamethylenetetramine from India: Final Affirmative Determination of Sales at Less Than Fair Value and Final Affirmative Determination of Critical Circumstances, in Part

AGENCY: Enforcement and Compliance, International Trade Administration, Department of Commerce.

SUMMARY: The U.S. Department of Commerce (Commerce) determines that hexamethylenetetramine (hexamine) from India is being, or is likely to be, sold in the United States at less than fair value (LTFV). The period of investigation is July 1, 2023, through June 30, 2024.

DATES: Applicable September 23, 2025.

FOR FURTHER INFORMATION CONTACT: Dylan Hill, AD/CVD Operations, Office IV, Enforcement and Compliance, International Trade Administration, U.S. Department of Commerce, 1401 Constitution Avenue NW, Washington, DC 20230; telephone: (202) 482-1197.

SUPPLEMENTARY INFORMATION:

Background

On May 6, 2025, Commerce published in the Federal Register its preliminary affirmative determination in the LTFV investigation of hexamine from India,¹ in which we also postponed the final determination until September 18, 2025, and invited interested parties to comment on the Preliminary Determination. On August 20, 2025, we issued a post-preliminary analysis memorandum in which we made certain changes to Commerce's differential pricing analysis.²

¹ See Hexamethylenetetramine from India: Preliminary Affirmative Determination of Sales at Less Than Fair Value, Postponement of Final Determination, and Extension of Provisional Measures, 90 FR 19178 (May 6, 2025) (Preliminary Determination), and accompanying Preliminary Decision Memorandum.

² See Memorandum, “Post-Preliminary Analysis for the Affirmative Determination in the Less-Than-Fair-Value Investigation of Hexamethylenetetramine from India,” dated August 20, 2025.

A summary of the events that occurred since Commerce published the Preliminary Determination, as well as a full discussion of the issues raised by parties for this final determination, may be found in the Issues and Decision Memorandum.³ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

³ See Memorandum, “Issues and Decision Memorandum for the Final Affirmative Determination of Sales at Less Than Fair Value in the Investigation of Hexamethylenetetramine from India,” dated concurrently with, and hereby adopted by, this notice (Issues and Decision Memorandum).

Scope of the Investigation

The product covered by this investigation is hexamine from India. For a complete description of the scope of this investigation, see Appendix I.

Scope Comments

We received no comments from interested parties on the scope of the investigation as it appeared in the Preliminary Determination. Therefore, we made no changes to the scope of the investigation from that published in the Preliminary Determination for the final determination.

Verification

As provided in section 782(i) of the Tariff Act of 1930, as amended (the Act), in June 2025, we conducted a verification of the sales and cost information submitted by the sole mandatory respondent, Kanoria Chemicals and Industries Limited (Kanoria), for use in the final determination.⁴ We used standard verification procedures, including an examination of relevant sales and accounting records, and original source documents provided by Kanoria.

⁴ See Memorandum, “Verification of the Kanoria Chemicals and Industries Limited in the Less-Than-Fair-Value Investigation of Hexamethylenetetramine from India,” dated August 20, 2025.

Analysis of Comments Received

All issues raised in the case and rebuttal brief submitted by interested parties in this investigation are addressed in the Issues and Decision Memorandum. A list of the issues addressed in the Issues and Decision Memorandum is attached to this notice as Appendix II.

Use of Adverse Facts Available

In the Preliminary Determination, we based the estimated weighted-average dumping margin of the companies that did not timely respond to the quantity and value questionnaire (i.e., Horizon Chemicals, Micro Labs Limited, Shreenathji Rasayan Private Limited, and Rajsha Chemicals Pvt. Ltd.) on adverse facts available (AFA). No parties commented on that decision. As explained in the Issues and Decision Memorandum, we have continued to base the estimated weighted-average dumping margin of these companies on AFA, pursuant to sections 776(a) and (b) of the Act.

Final Affirmative Determination of Critical Circumstances, in Part

On August 27, 2025, Bakelite LLC (the petitioner) alleged that critical circumstances exist with respect to U.S. imports of hexamine from India.⁵ We determine that critical circumstances do not exist for Kanoria, and all other companies not individually examined, except for the companies to which we applied AFA (i.e., Horizon Chemicals, Micro Labs Limited, Shreenathji Rasayan Private Limited, and Rajsha Chemicals Pvt. Ltd.), pursuant to section 735(a)(3) of the Act and 19 CFR 351.206. For a discussion of Commerce's critical circumstances analysis, see the Issues and Decision Memorandum.

⁵ See Petitioner's Letter, “Critical Circumstances Allegation,” dated August 27, 2025.

Changes Since the Preliminary Determination

We made certain changes to the Preliminary Determination. For a discussion of these changes, see the Issues and Decision Memorandum.⁶

⁶ See also Memorandum, “Analysis for the Final Determination,” dated concurrently with this notice.

All-Others Rate

Section 735(c)(5)(A) of the Act provides that Commerce shall determine an estimated all-others rate for all exporters and producers not individually examined. This rate shall be an amount equal to the weighted average of the estimated weighted-average dumping margins established for exporters and producers individually investigated, excluding any zero and de minimis margins, and any margins determined entirely under section 776 of the Act.

Commerce calculated an individual estimated weighted-average dumping margin for Kanoria, the only individually examined exporter/producer in this investigation, that is not zero, de minimis, or based entirely on facts otherwise available. Therefore, we assigned the estimated weighted-average dumping margin that we calculated for Kanoria to all other producers and exporters, pursuant to section 735(c)(5)(A) of the Act.

Final Determination

Commerce determines that the following estimated weighted-average dumping margins exist for the period, July 1, 2023, through June 30, 2024:

Exporter/producer | Weighted- average dumping margin (percent) | Cash deposit rate (adjusted for subsidy offset(s)) (percent)
Kanoria Chemicals and Industries Limited | 5.11 | ⁷ 3.12
Horizon Chemicals | * 105.76 | 103.77
Micro Labs Limited | * 105.76 | 103.77
Shreenathji Rasayan Private Limited | * 105.76 | 103.77
Rajsha Chemicals Pvt. Ltd | * 105.76 | 103.77
All Others | 5.11 | 3.12
* Rate based on facts available with adverse inferences.

Disclosure

⁷ Adjusted for export subsidies of 1.99 percent (comprised of 1.19 percent for the duty drawback program, and 0.80 percent for the remissions of duties and taxes on export products program) for Kanoria and All Others. See unpublished Federal Register notice, “Hexamethylenetetramine from India: Final Affirmative Countervailing Duty Determination and Final Affirmative Critical Circumstances Determination, In Part,” and accompanying Issues and Decision Memorandum, dated September 18, 2025.

Commerce intends to disclose the calculations performed in connection with this final determination to parties to the proceeding within five days of any public announcement or, if there is no public announcement, within five days of the date of publication of this notice in the Federal Register, in accordance with 19 CFR 351.224(b).

Continuation of Suspension of Liquidation

In accordance with section 735(c)(1)(B) of the Act, for Kanoria and the companies to which the All-Others dumping margin applies, Commerce will instruct U.S. Customs and Border Protection (CBP) to continue to suspend liquidation of all entries of subject merchandise, as described in Appendix I of this notice, which were entered, or withdrawn from warehouse, for consumption on or after May 6, 2025, the date of publication of the Preliminary Determination in the Federal Register. With respect to the companies for which Commerce found critical circumstances, section 735(c)(4)(B) of the Act provides that, given an affirmative determination of critical circumstances, any suspension of liquidation shall apply to unliquidated entries of subject merchandise entered, or withdrawn from warehouse, for consumption on or after the date which is 90 days before the date on which suspension of liquidation was first ordered. As noted above, Commerce finds that critical circumstances exist for imports of subject merchandise produced or exported by the following companies: (1) Horizon Chemicals; (2) Micro Labs Limited; (3) Shreenathji Rasayan Private Limited; and (4) Rajsha Chemicals Pvt. Ltd. In accordance with section 735(c)(4)(B) of the Act, Commerce will instruct CBP to suspend liquidation of all unliquidated entries of subject merchandise from Horizon Chemicals, Micro Labs Limited, Shreenathji Rasayan Private Limited, or Rajsha Chemicals Pvt. Ltd. that were entered, or withdrawn from warehouse, for consumption on or after February 5, 2025, which is 90 days before the date of publication of the Preliminary Determination in the Federal Register. These suspension of liquidation instructions will remain in effect until further notice.

Pursuant to section 735(c)(1)(B)(ii) of the Act and 19 CFR 351.210(d), upon the publication of this notice, we will instruct CBP to require a cash deposit for estimated antidumping duties for entries of subject merchandise as follows: (1) the cash deposit rate for each of the companies listed in the table above is the company-specific estimated weighted-average dumping margin listed for the company in the table; (2) if the exporter of the subject merchandise is not listed in the table above, but the producer is, then the cash deposit rate is the company-specific estimated weighted-average dumping margin listed for the producer of the subject merchandise in the table above; and (3) the cash deposit rate for all other producers and exporters is the all-others estimated weighted-average dumping margin listed in the table above.

To determine the cash deposit rates in LTFV investigations, Commerce normally adjusts the estimated weighted-average dumping margins by the amount of export subsidies countervailed in the companion countervailing duty (CVD) investigation when CVD provisional measures are in effect. Accordingly, where Commerce has made a final affirmative determination of countervailable export subsides, Commerce offsets the estimated weighted-average dumping margins in the companion LTFV investigation by the appropriate export subsidy rate. Here, Commerce normally would have adjusted the estimated weighted-average dumping margins that are listed in the table above by the appropriate export subsidy rate determined in the companion CVD investigation to determine the cash deposit rate. However, the suspension of liquidation under provisional measures in the companion CVD investigation has been discontinued.⁸ Therefore, at this time Commerce is instructing CBP to collect cash deposits based on the “Weighted-Average Dumping Margin” listed in the above table rather than the “Cash Deposit Rate (Adjusted for Subsidy Offset(s))” listed in the above table. If the U.S. International Trade Commission (ITC) makes a final affirmative determination of injury due to both dumping and subsidies, then the cash deposit rates will be revised effective as of the date of publication of the ITC's final affirmative determination in the Federal Register to be the “Cash Deposit Rate (Adjusted for Subsidy Offset(s))” listed in the table above.

⁸ See section 703(d) of the Act, which states that the provisional measures may not be in effect for more than four months, which in the companion CVD investigation is 120 days after the publication of the preliminary determination in the Federal Register, or July 4, 2025 (i.e., the last day provisional measures are in effect).

ITC Notification

In accordance with section 735(d) of the Act, Commerce will notify the ITC of its final affirmative determination of sales at LTFV. Because Commerce's final determination is affirmative, in accordance with section 735(b)(2) of the Act, the ITC will make its final determination as to whether the domestic industry in the United States is materially injured, or threatened with material injury, by reason of imports or sales (or the likelihood of sales) for importation of hexamine from India no later than 45 days after this final determination. If the ITC determines that such injury does not exist, this proceeding will be terminated, all cash deposits posted will be refunded, and suspension of liquidation will be lifted. If the ITC determines that such injury does exist, Commerce will issue an antidumping duty order directing CBP to assess, upon further instruction by Commerce, antidumping duties on all imports of the subject merchandise entered, or withdrawn from warehouse, for consumption on or after the effective date of the suspension of liquidation, as discussed in the “Continuation of Suspension of Liquidation” section above.

Administrative Protective Order (APO)

This notice serves as a final reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a violation subject to sanction.

Notification to Interested Parties

This final determination and notice are issued and published in accordance with sections 735(d) and 777(i) of the Act, and 19 CFR 351.210(c).

Dated: September 18, 2025.
Christopher Abbott,
Deputy Assistant Secretary for Policy and Negotiations, performing the non-exclusive functions and duties of the Assistant Secretary for Enforcement and Compliance.

Appendix I

Scope of the Investigation

The scope of the investigation covers hexamine in granular form, with a particle size of 5 millimeters or less, whether stabilized or unstabilized, whether or not blended, mixed, pulverized, or grounded with other products, containing 50 percent or more hexamine by weight.

Hexamine is the common name for hexamethylene tetramine (Chemical Abstract Service #100-97-0), and is also referred to as 1,3,5,7-tetraazaadamantanemethenamine; HMT; HMTA; 1,3,5,7-tetraazatricyclo {3.3.1.13,7} decane; 1,3,5,7-tetraaza adamantane; hexamethylenamine. Hexamine has the chemical formula C6H12N4.

Granular hexamine that has been blended with other product(s) is included in this scope when the resulting mix contains 50 percent or more of hexamine by weight, regardless of whether it is blended with inert additives, co-reactants, or any additives that undergo self-condensation.

Subject merchandise includes merchandise matching the above description that has been processed in a third country, including by commingling, diluting, adding or removing additives, or performing any other processing that would not otherwise remove the merchandise from the scope of the investigation if performed in the subject country.

Merchandise covered by the scope of the investigation can be classified in the Harmonized Tariff Schedule (HTSUS) of the United States under the subheading 2933.69.5000. The HTSUS subheading and Chemical Abstracts Service registry number are provided for convenience and customs purposes only; however, the written description of the scope is dispositive.

Appendix II

List of Topics Discussed in the Issues and Decision Memorandum

I. Summary

II. Background

III. Application of Facts Available With Adverse Inferences

IV. Final Determination of Critical Circumstances

V. Changes Since the Preliminary Determination

VI. Discussion of the Issues

Comment 1: Whether to Deny the Duty Drawback Adjustment

Comment 2: Whether Commerce Should Apply Partial Adverse Facts Available (AFA) for Kanoria Chemicals and Industries Limited (Kanoria)'s Failure to Cooperate to the Best of Its Ability

VII. Recommendation

[FR Doc. 2025-18441 Filed 9-22-25; 8:45 am]

BILLING CODE 3510-DS-P